DEPARTMENT OF ENERGY

Federal Energy Regulatory Commission

[Project No. 5218-002]

Notice of Intent To Terminate Conduit Exemption and Soliciting Comments, Protests, and Motions To Intervene: City of San Luis Obispo

Take notice that the following hydroelectric proceeding has been initiated by the Commission:

a. Type of Proceeding: Termination of small conduit exemption by implied surrender.

b. Project No.: 5218-002.

c. Date Initiated: August 21, 2018.

d. Exemptee: City of San Luis Obispo, California.

e. Name and Location of Project: This conduit hydroelectric project is located on the City of San Luis Obispo's water supply in San Luis Obispo County, California.

f. Filed Pursuant to: 18 CFR 4.94 (Standard Article 1).

g. Exemptee Contact Information: Mr. Wade Horton, Water Division Manager, San Luis Obispo, 879 Morro Street, San Luis Obispo, CA 93401; phone: (805) 781-7237.

h. FERC Contact: Jennifer Polardino, (202) 502-6437, Jennifer.Polardino@ferc.gov.

i. Deadline for filing comments, protests, or motions to intervene is 30 days from the issuance of this notice by the Commission. Please file your submittal electronically via the internet (eFiling) in lieu of paper. Please refer to the instructions on the Commission's website under http://www.ferc.gov/docs-filing/efiling.asp and filing instructions in the Commission's Regulations at 18 CFR 385.2001(a)(1)(iii). To assist you with eFilings you should refer to the submission guidelines document at http://www.ferc.gov/help/submission-guide/user-guide.pdf. In addition, certain filing requirements have statutory or regulatory formatting and other instructions. You should refer to a list of these “qualified documents” at http://www.ferc.gov/docs-filing/efiling/filing.pdf. You must include your name and contact information at the end of your comments. Please include the project number (P-5218-002) on any documents or motions filed. The Commission strongly encourages electronic filings; otherwise, you should submit an original and seven copies of any submittal to the following address: The Secretary, Federal Energy Regulatory Commission, Mail Code: DHAC, PJ-12, 888 First Street NE, Washington, DC 20426.

j. Description of Project Facilities: As authorized, the project uses the following existing water supply facilities: (1) A 5,133-foot-long, 18-inch diameter Salinas pipeline; (2) an existing 4,080-foot-long, 12-inch diameter San Luis Obispo City pipeline, which serves as the project's penstock; (3) a powerhouse containing a generating unit with a nameplate capacity of 680 kilowatts; and (4) a transmission line that connects the powerhouse to an existing Pacific Gas and Electric Company distribution line.

k. Description of Proceeding: The exemptee is in violation of Standard Article 1 of its exemption issued on January 17, 1982 (18 FERC ¶ 62,059). Article 1 provides, among other things, that the Commission may terminate an exemption if any term or condition of the exemption is violated.

Commission records, including correspondence with the exemptee, show that the San Luis Obispo Project has not operated since June 1993. Since 1995, the Commission has worked with the exemptee to file a plan and schedule to restore operation. Over the years, the exemptee has made many proposals to restart generation, but none have come to fruition. Most recently, on September 19, 2017, the exemptee said it planned to complete new designs by June 2018 for rebuilding portions of the project and would begin construction by December 2018. The exemptee has not filed its new designs and has stopped responding to Commission staff letters seeking updates. On May 24, 2018, Commission staff notified the exemptee that failure to file a response may result in implied surrender of the project's exemption.

l. This notice is available for review and reproduction at the Commission in the Public Reference Room, Room 2A, 888 First Street NE, Washington, DC 20426. The filing may also be viewed on the Commission's website at http://www.ferc.gov/docs-filing/elibrary.asp. Enter the Docket number (P-5218-002) excluding the last three digits in the docket number field to access the notice. You may also register online at http://www.ferc.gov/docs-filing/esubscription.asp to be notified via email of new filings and issuances related to this or other pending projects. For assistance, call toll-free (866) 208-3676 or email FERCOnlineSupport@ferc.gov. For TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .212, .214. In determining the appropriate action to take, the Commission will consider all protests or other comments filed, but only those who file a motion to intervene in accordance with the Commission's Rules may become a party to the proceeding. Any comments, protests, or motions to intervene must be received on or before the specified comment date for the particular proceeding.

o. Filing and Service of Responsive Documents: Any filing must (1) Bear in all capital letters the title “COMMENTS,” “PROTEST,” or “MOTIONS TO INTERVENE,” as applicable; (2) set forth in the heading the project number of the proceeding to which the filing responds; (3) furnish the name, address, and telephone number of the person commenting, protesting, or intervening; and (4) otherwise comply with the requirements of 18 CFR 385.2001 through 385.2005. All comments or protests must set forth their evidentiary basis. All comments, protests, or motions to intervene should relate to project works which are the subject of the termination of exemption. A copy of any protest or motion to intervene must be served on each representative of the exemptee specified in item g. above. A copy of all other filings in reference to this notice must be accompanied by proof of service on all persons listed in the service list prepared by the Commission in this proceeding in accordance with 18 CFR 4.34(b) and 385.2010.

p. Agency Comments: Federal, state, and local agencies are invited to file comments on the described proceeding. If any agency does not file comments within the time specified for filing comments, it will be presumed to have no comments.

Dated: August 21, 2018.
Nathaniel J. Davis, Sr.,
Deputy Secretary.

[FR Doc. 2018-18465 Filed 8-24-18; 8:45 am]

BILLING CODE 6717-01-P